Title 3—

The President

Executive Order 13184 of December 28, 2000

Revocation of Executive Order 12834

By the authority vested in me as President of the United States by the Constitution and laws of the United States of America, including section 301 of title 3, United States Code, and sections 3301 and 7301 of title 5, United States Code, it is hereby ordered as follows:

Executive Order 12834 of January 20, 1993, “Ethics Commitments by Executive Branch Appointees,” is hereby revoked, effective at noon January 20, 2001. Employees and former employees subject to the commitments in Executive Order 12834 will not be subject to those commitments after the effective date of this order.

wj

THE WHITE HOUSE,

December 28, 2000.

[FR Doc. 01-255

Filed 1-2-01; 8:45 am]

Billing code 3195-01-P